DEPARTMENT OF COMMERCE

International Trade Administration

[C-122-858]

Certain Softwood Lumber Products From Canada: Notice of Amended Final Results of the Countervailing Duty Administrative Review, 2019

AGENCY: Enforcement and Compliance, International Trade Administration, Department of Commerce.

SUMMARY: The Department of Commerce (Commerce) is amending its notice of final results of the 2019 administrative review of the countervailing duty (CVD) order on certain softwood lumber products (softwood lumber) from Canada.

DATES: Applicable January 10, 2022.

FOR FURTHER INFORMATION CONTACT: Jonathan Hall-Eastman (Canfor), John Hoffner (JDIL), Kristen Johnson/Samuel Brummitt (Resolute), and Laura Griffith (West Fraser), AD/CVD Operations, Office III, Enforcement and Compliance, International Trade Administration, U.S. Department of Commerce, 1401 Constitution Avenue NW, Washington, DC 20230; telephone: (202) 482-1468, (202) 482-3315, (202) 482-4793/(202) 482-7851, and (202) 482-6430, respectively.

SUPPLEMENTARY INFORMATION:

Background

On December 2, 2021, Commerce published its final results in the 2019 administrative review of the CVD order on certain softwood lumber from Canada.¹ On December 7, 2021, Resolute FP Canada Inc. (Resolute) alleged that Commerce committed a ministerial error in the Final Results regarding the net subsidy rate calculation under the Provision of Stumpage for Less Than Adequate Remuneration (LTAR) programs of the Government of Quebec (GOQ) and Government of Ontario (GOO).² On December 13, 2021, the petitioner ³ submitted ministerial error comments, as well as rebuttal comments arguing that Resolute's ministerial error comments were untimely as they were not submitted during the time period specified under Commerce's regulations and therefore Commerce should not change Resolute's stumpage calculations.⁴

¹ See Certain Softwood Lumber Products from Canada: Final Results of the Countervailing Duty Administrative Review, 2019, 86 FR 68467 (December 2, 2021) (Final Results), and accompanying Issues and Decision Memorandum (IDM).

² See Resolute's Letter, “Softwood Lumber from Canada: CVD Second Administrative Review Ministerial Error Comments On Behalf Of Resolute FP Canada And Affiliates,” dated December 7, 2021.

³ The petitioner is the Committee Overseeing Action for Lumber International Trade Investigations or Negotiations, an ad hoc association whose members are: U.S. Lumber Coalition, Inc.; Collum's Lumber Products, L.L.C.; Fox Lumber Sales, Inc.; Hankins, Inc.; Pleasant River Lumber Company; PotlatchDeltic; Rex Lumber Company; S.I. Storey Lumber Co., Inc.; Stimson Lumber Company; Swanson Group; Weyerhaeuser Company; Carpenters Industrial Council; Giustina Land and Timber Company; and Sullivan Forestry Consultants, Inc.

⁴ See Petitioner's Letter, “Certain Softwood Lumber Products from Canada: Ministerial Error Allegations,” dated December 13, 2021 (Petitioner Ministerial Error Allegation Submission); see also Petitioner's Letter, “Certain Softwood Lumber Products from Canada: Response to Resolute Ministerial Error Allegation,” dated December 13, 2021.

In the Petitioner Ministerial Error Allegation Submission, the petitioner alleged with respect to J.D. Irving, Limited (JDIL) that Commerce committed ministerial errors regarding the subsidy calculations for New Brunswick License Management Fees, Capital Cost Allowance for Class 1 Assets, New Brunswick Gasoline & Fuel Tax Exemptions and Refund, and Large Industrial Renewable Energy Purchase (LIREPP) programs.⁵ The petitioner also alleged that Commerce committed ministerial errors with respect to West Fraser Mills Ltd. (West Fraser) regarding the calculated benefit for lower tax rates for Coloured Fuel/British Columbia Coloured Fuel Certification program and for payments made to West Fraser for cruising and block layout activities.⁶ In addition, the petitioner alleged that Commerce miscalculated the net subsidy rate under the Provision of Stumpage for LTAR for the Government of Alberta (GOA), the Government of British Columbia (GBC), and the British Columbia Log Export Restrictions Restraint (LER) programs for West Fraser.⁷ On December 17, 2021, JDIL and West Fraser submitted rebuttal comments to the Petitioner Ministerial Error Allegation Submission.⁸

⁵ See Petitioner Ministerial Error Allegation Submission.

⁶ Id.

⁷ Id.

⁸ See JDIL's Letter, “Softwood Lumber Products from Canada: Reply to Petitioner's Ministerial Error Allegations,” dated December 17, 2021; see also West Fraser's Letter, “Certain Softwood Lumber Products from Canada, Case No. C-122-858: West Fraser Mills Ltd.'s Response to Ministerial Error Comments,” dated December 17, 2021.

Scope of the Order ⁹

⁹ See Certain Softwood Lumber Products from Canada: Amended Final Affirmative Countervailing Duty Determination and Countervailing Duty Order, 83 FR 347 (January 3, 2018) (Order).

The product covered by the Order is certain softwood lumber products from Canada. For a complete description of the scope of the Order, see the Issues and Decision Memorandum in the Final Results.

Ministerial Errors

Section 351.224(e) of Commerce's regulations provides that Commerce will analyze any comments received and, if appropriate, correct any ministerial error by amending the final results of the review. Section 751(h) of the Tariff Act of 1930, as amended (the Act), and 19 CFR 351.224(f) define a “ministerial error” as an error “in addition, subtraction, or other arithmetic function, clerical error resulting from inaccurate copying, duplication, or the like, and any other similar type of unintentional error which the Secretary considers ministerial.”

We analyzed the ministerial error comments and determined, in accordance with section 751(h) of the Act and 19 CFR 351.224(e) and (f), that we made the following ministerial errors: ¹⁰

¹⁰ See Memorandum, “Administrative Review of the Countervailing Duty Order on Certain Softwood Lumber Products from Canada: Ministerial Error Allegations in the Final Results,” dated concurrently with this notice.

(1) We incorrectly calculated JDIL's benefit under the New Brunswick License Management Fees. Therefore, we have corrected JDIL's License Management Fees benefit calculation in these amended final results, and we will incorporate JDIL's corrected total subsidy rate in the amended cash deposit instructions and liquidation instructions.

(2) We incorrectly calculated JDIL's benefit under the Capital Cost Allowance for Class 1 Assets program. Although the resulting change in JDIL's benefit amount for this program will not change JDIL's subsidy rate when rounded to the nearest one-hundredth place, as we are already making other modifications to our calculations, we have determined to correct JDIL's license management fees benefit calculation in these amended final results.

(3) We incorrectly calculated JDIL's benefit under the New Brunswick Gasoline & Fuel Tax Exemptions and Refund program. Therefore, we have corrected JDIL's license management fees benefit calculation in these amended final results, and we will incorporate JDIL's corrected total subsidy rate in the amended cash deposit instructions and liquidation instructions.

(4) Finally, we incorrectly calculated West Fraser's benefit under the Coloured Fuel/British Columbia Coloured Fuel Certification program. Therefore, we have corrected West Fraser's benefit calculation in these amended final results, and we will incorporate West Fraser's corrected total subsidy rate in the amended cash deposit instructions and liquidation instructions.

With regard to the petitioner's allegation that we incorrectly calculated the net subsidy rate for JDIL's LIREPP program, we find no ministerial error because we made a methodological decision in calculating the benefit for certain LIREPP credits. Regarding the petitioner's allegation that we incorrectly calculated the payments made to West Fraser for cruising and block layout activities, we agree with the petitioner that Commerce conducted an incorrect calculation of the potential benefit under this program, and further acknowledge that this type of error is one Commerce would typically correct as a ministerial error. However, such a correction would likely result in calculations upon which interested parties would be unable to brief or provide commentary, given the timing and nature of the change in this review. Accordingly, we are deferring a determination as to whether this program is countervailable until the next administrative review and, thus, not amending our calculation for this program in the Final Results.

We find that the petitioner's allegation that Commerce used an incorrect sales denominator to calculate West Fraser's benefit under certain programs is untimely, because it was discoverable in the Preliminary Results, but not raised in the petitioner's case brief. Likewise, we find that Resolute's allegation that Commerce used an incorrect sales denominator to calculate Resolute's benefit under certain programs is untimely, because it was discoverable in the Preliminary Results, but not raised in the Resolute's case brief. As such, we are rejecting both of these allegations as untimely filed allegations.

Company Name Corrections

In the Final Results, we listed Chaleur Sawmills LP and Fornebu Lumber Company Inc., as non-selected exporters/producers.¹¹ We, however, previously found that the successors-in-interest to Chaleur Sawmills LP and Fornebu Lumber Co. Inc. are Chaleur Forest Products LP and Chaleur Forest Products Inc.¹² Consequently, we are correcting the companies that are subject to this administrative review to Chaleur Forest Products LP and Chaleur Forest Products Inc. See Appendix to this notice for a list of the non-selected exporters/producers subject to this review.

¹¹ See Final Results, 86 FR at 68470-71.

¹² See Certain Softwood Lumber Products from Canada: Notice of Final Results of Countervailing Duty Changed Circumstances Review, 86 FR 43189 (August 6, 2021).

Amended Final Results of Review

As a result of correcting the alleged ministerial errors noted above, we determine that the following countervailable subsidy rates exist for 2019:

¹³ Commerce finds the following companies to be cross-owned with Canfor Corporation: Canadian Forest Products., Ltd. and Canfor Wood Products Marketing, Ltd.

¹⁴ Commerce finds the following companies to be cross-owned with J.D. Irving, Limited: Miramichi Timber Holdings Limited, The New Brunswick Railway Company, Rothesay Paper Holdings Ltd., and St. George Pulp & Paper Limited.

¹⁵ Commerce finds the following companies to be cross-owned with Resolute: Resolute Growth Canada Inc., Produits Forestiers Maurice SEC., and Resolute Forest Products Inc.

¹⁶ Commerce finds the following companies to be cross-owned with West Fraser: West Fraser Timber Co., Ltd., Blue Ridge Lumber Inc., Sunpine Inc., Sundre Forest Products Inc., Manning Forest Products, and West Fraser Alberta Holdings.

Companies | Subsidy rate 2019 percent ad valorem
Canfor Corporation and its cross-owned affiliates ¹³ | 2.42
J.D. Irving, Limited and its cross-owned affiliates ¹⁴ | 3.46
Resolute FP Canada Inc. and its cross-owned affiliates ¹⁵ | 18.07
West Fraser Mills Ltd. and its cross-owned affiliates ¹⁶ | 5.08
Non-Selected Companies | 6.32

Assessment Rates

Pursuant to section 751(a)(2)(C) of the Act and 19 CFR 351.212(b)(2), Commerce will determine, and U.S. Customs and Border Protection (CBP) shall assess, countervailing duties on all appropriate entries of subject merchandise in accordance with the amended final results of this review, for the above-listed companies at the applicable ad valorem assessment rates listed. We intend to issue assessment instructions to CBP no earlier than 41 days after the date of publication of these amended final results of review in the Federal Register.¹⁷

¹⁷ See 19 CFR 356.8(a).

Cash Deposit Rate

In accordance with section 751(a)(2)(C) of the Act, Commerce also intends to instruct CBP to collect cash deposits of estimated countervailing duties in the amounts shown for the companies subject to this review. For all non-reviewed companies, we will instruct CBP to continue to collect cash deposits of estimated countervailing duties at the most recent company-specific or all-others rate applicable to the company, as appropriate. These cash deposits, effective upon publication of these amended final results, shall remain in effect until further notice.

Administrative Protective Order (APO)

This notice also serves as a final reminder to parties subject to APO of their responsibility concerning the return or destruction of proprietary information disclosed under APO in accordance with 19 CFR 351.305(a)(3). Timely written notification of the return or destruction of APO materials or conversion to judicial protective order is hereby requested. Failure to comply with the regulations and the terms of an APO is a sanctionable violation.

Notification to Interested Parties

Commerce is issuing and publishing these amended final results of administrative review in accordance with sections 751(a)(1) and 777(i)(1) of the Act, and 19 CFR 351.221(b)(5).

Dated: January 4, 2022.
Ryan Majerus,
Deputy Assistant Secretary for Policy and Negotiations, performing the non-exclusive functions and duties of the Assistant Secretary for Enforcement and Compliance.

Appendix

Non-Selected Exporters/Producers

1. 1074712 BC Ltd.

2. 258258 B.C. Ltd., dba Pacific Coast Cedar Products

3. 5214875 Manitoba Ltd.

4. 752615 B.C Ltd., Fraserview Remanufacturing Inc., dba Fraserview Cedar Products.

5. 9224-5737 Quebec Inc. (aka A.G. Bois)

6. A.B. Cedar Shingle Inc.

7. Absolute Lumber Products, Ltd.

8. AJ Forest Products Ltd.

9. Alberta Spruce Industries Ltd.

10. Aler Forest Products, Ltd.

11. Alpa Lumber Mills Inc.

12. AM Lumber Brokerage

13. American Pacific Wood Products

14. Anbrook Industries Ltd.

15. Andersen Pacific Forest Products Ltd.

16. Anglo-American Cedar Products, Ltd.

17. Antrim Cedar Corporation

18. Aquila Cedar Products, Ltd.

19. Arbec Lumber Inc.

20. Aspen Planers Ltd.

21. B&L Forest Products Ltd.

22. B.B. Pallets Inc.

23. Babine Forest Products Limited

24. Bakerview Forest Products Inc.

25. Bardobec Inc.

26. BarretteWood Inc.

27. Barrette-Chapais Ltee

28. Benoit & Dionne Produits Forestiers Ltee

29. Best Quality Cedar Products Ltd.

30. Blanchet Multi Concept Inc.

31. Blanchette & Blanchette Inc.

32. Bois Aise de Montreal Inc.

33. Bois Bonsai Inc.

34. Bois Daaquam Inc.

35. Bois D'oeuvre Cedrico Inc. (aka Cedrico Lumber Inc.)

36. Bois et Solutions Marketing SPEC, Inc.

37. Boisaco Inc.

38. Boscus Canada Inc.

39. BPWood Ltd.

40. Bramwood Forest Inc.

41. Brink Forest Products Ltd.

42. Brunswick Valley Lumber Inc.

43. Busque & Laflamme Inc.

44. C&C Wood Products Ltd.

45. Caledonia Forest Products Inc.

46. Campbell River Shake & Shingle Co., Ltd.

47. Canadian American Forest Products Ltd.

48. Canadian Wood Products Inc.

49. Canasia Forest Industries Ltd

50. Canusa cedar inc.

51. Canyon Lumber Company, Ltd.

52. Careau Bois Inc.

53. Carrier & Begin Inc.

54. Carrier Forest Products Ltd.

55. Carrier Lumber Ltd.

56. Cedar Valley Holdings Ltd.

57. Cedarline Industries, Ltd.

58. Central Alberta Pallet Supply

59. Central Cedar Ltd.

60. Central Forest Products Inc.

61. Centurion Lumber, Ltd.

62. Chaleur Forest Products LP

63. Chaleur Forest Products Inc.

64. Channel-ex Trading Corporation

65. Clair Industrial Development Corp. Ltd.

66. Clermond Hamel Ltee

67. CNH Products Inc.

68. Coast Clear Wood Ltd.

69. Coast Mountain Cedar Products Ltd.

70. Columbia River Shake & Shingle Ltd./Teal Cedar Products Ltd., dba The Teal Jones Group

71. Commonwealth Plywood Co. Ltd.

72. Comox Valley Shakes Ltd./Comox Valley Shakes (2019) Ltd.

73. Conifex Fibre Marketing Inc.

74. Cowichan Lumber Ltd.

75. CS Manufacturing Inc., dba Cedarshed

76. CWP—Industriel Inc.

77. CWP—Montreal Inc.

78. D & D Pallets, Ltd.

79. Dakeryn Industries Ltd.

80. Decker Lake Forest Products Ltd.

81. Delco Forest Products Ltd.

82. Delta Cedar Specialties Ltd.

83. Devon Lumber Co. Ltd.

84. DH Manufacturing Inc.

85. Direct Cedar Supplies Ltd.

86. Doubletree Forest Products Ltd.

87. Downie Timber Ltd.

88. Dunkley Lumber Ltd.

89. EACOM Timber Corporation

90. East Fraser Fiber Co. Ltd.

91. Edgewood Forest Products Inc.

92. ER Probyn Export Ltd.

93. Eric Goguen & Sons Ltd.

94. Falcon Lumber Ltd.

95. Fontaine Inc.

96. Foothills Forest Products Inc.

97. Fraser Specialty Products Ltd.

98. FraserWood Inc.

99. FraserWood Industries Ltd.

100. Furtado Forest Products Ltd.

101. G & R Cedar Ltd.

102. Galloway Lumber Company Ltd.

103. Gilbert Smith Forest Products Ltd.

104. Glandell Enterprises Inc.

105. Goat Lake Forest Products Ltd.

106. Goldband Shake & Shingle Ltd.

107. Golden Ears Shingle Ltd.

108. Goldwood Industries Ltd.

109. Goodfellow Inc.

110. Gorman Bros. Lumber Ltd.

111. Groupe Crete Chertsey Inc.

112. Groupe Crete Division St-Faustin Inc.

113. Groupe Lebel Inc.

114. Groupe Lignarex Inc.

115. H.J. Crabbe & Sons Ltd.

116. Haida Forest Products Ltd.

117. Harry Freeman & Son Ltd.

118. Hornepayne Lumber LP

119. Imperial Cedar Products, Ltd.

120. Imperial Shake Co. Ltd.

121. Independent Building Materials Dist.

122. Interfor Corporation

123. Island Cedar Products Ltd

124. Ivor Forest Products Ltd.

125. J&G Log Works Ltd.

126. J.H. Huscroft Ltd.

127. Jan Woodlands (2001) Inc.

128. Jasco Forest Products Ltd.

129. Jazz Forest Products Ltd.

130. Jhajj Lumber Corporation

131. Kalesnikoff Lumber Co. Ltd.

132. Kan Wood, Ltd.

133. Kebois Ltee/Ltd.

134. Keystone Timber Ltd.

135. Kootenay Innovative Wood Ltd.

136. L'Atelier de Readaptation au Travail de Beauce Inc.

137. Lafontaine Lumber Inc.

138. Langevin Forest Products Inc.

139. Lecours Lumber Co. Limited

140. Ledwidge Lumber Co. Ltd.

141. Leisure Lumber Ltd.

142. Les Bois d'oeuvre Beaudoin Gauthier inc.

143. Les Bois Martek Lumber

144. Les Bois Traites M.G. Inc.

145. Les Chantiers de Chibougamau Ltd.

146. Leslie Forest Products Ltd.

147. Lignum Forest Products LLP

148. Linwood Homes Ltd.

149. Longlac Lumber Inc.

150. Lulumco Inc.

151. Magnum Forest Products, Ltd.

152. Maibec inc.

153. Manitou Forest Products Ltd.

154. Marwood Ltd.

155. Materiaux Blanchet Inc.

156. Matsqui Management and Consulting Services Ltd., dba Canadian Cedar Roofing Depot

157. Metrie Canada Ltd.

158. Mid Valley Lumber Specialties, Ltd.

159. Midway Lumber Mills Ltd.

160. Mill & Timber Products Ltd.

161. Millar Western Forest Products Ltd.

162. Mobilier Rustique (Beauce) Inc.

163. MP Atlantic Wood Ltd.

164. Multicedre ltee

165. Murray Brothers Lumber Company Ltd

166. Nakina Lumber Inc.

167. National Forest Products Ltd.

168. New Future Lumber Ltd.

169. Nicholson and Cates Ltd

170. Norsask Forest Products Limited Partnership

171. North American Forest Products Ltd. (located in Abbotsford, British Columbia)

172. North Enderby Timber Ltd.

173. Oikawa Enterprises Ltd.

174. Olympic Industries, Inc./Olympic Industries Inc-Reman Code/Olympic Industries ULC/Olympic Industries ULC-Reman/Olympic Industries ULC-Reman Code

175. Oregon Canadian Forest Products

176. Pacific Coast Cedar Products, Ltd.

177. Pacific Pallet, Ltd.

178. Pacific Western Wood Works Ltd.

179. Parallel Wood Products Ltd.

180. Pat Power Forest Products Corporation

181. Phoenix Forest Products Inc.

182. Pine Ideas Ltd.

183. Pioneer Pallet & Lumber Ltd.

184. Porcupine Wood Products Ltd.

185. Power Wood Corp.

186. Precision Cedar Products Corp.

187. Prendiville Industries Ltd. (aka, Kenora Forest Products)

188. Produits Forestiers Petit Paris Inc.

189. Produits forestiers Temrex, s.e.c.

190. Produits Matra Inc. and Sechoirs de Beauce Inc.

191. Promobois G.D.S. inc.

192. Quadra Cedar

193. Rayonier A.M. Canada GP

194. Rembos Inc.

195. Rene Bernard Inc.

196. Richard Lutes Cedar Inc.

197. Rielly Industrial Lumber Inc.

198. S & K Cedar Products Ltd.

199. S&R Sawmills Ltd

200. S&W Forest Products Ltd.

201. San Industries Ltd.

202. Sawarne Lumber Co. Ltd.

203. Scierie P.S.E. lnc.

204. Scierie St-Michel inc.

205. Scierie West Brome Inc.

206. Scotsburn Lumber Co. Ltd.

207. Scott Lumber Sales

208. Serpentine Cedar Ltd.

209. Sexton Lumber Co. Ltd.

210. Sigurdson Forest Products Ltd.

211. Silvaris Corporation

212. Silver Creek Premium Products Ltd.

213. Sinclar Group Forest Products Ltd.

214. Skana Forest Products Ltd.

215. Skeena Sawmills Ltd

216. Sound Spars Enterprise Ltd.

217. South Beach Trading Inc.

218. Specialiste de Bardeau de Cedre Inc.

219. Spruceland Millworks Inc.

220. Star Lumber Canada Ltd.

221. Sundher Timber Products Ltd.

222. Surrey Cedar Ltd.

223. T.G. Wood Products, Ltd.

224. Taan Forest LP/Taan Forest Products

225. Taiga Building Products Ltd.

226. Tall Tree Lumber Company

227. Tembec Inc.

228. Temrex Produits Forestiers s.e.c.

229. Terminal Forest Products Ltd.

230. The Wood Source Inc.

231. Tolko Industries Ltd. and Tolko Marketing and Sales Ltd.

232. Trans-Pacific Trading Ltd.

233. Triad Forest Products Ltd.

234. Twin Rivers Paper Co. Inc.

235. Tyee Timber Products Ltd.

236. Universal Lumber Sales Ltd.

237. Usine Sartigan Inc.

238. Vaagen Fibre Canada, ULC

239. Valley Cedar 2 Inc./Valley Cedar 2 ULC

240. Vancouver Island Shingle, Ltd.

241. Vancouver Specialty Cedar Products Ltd.

242. Vanderhoof Specialty Wood Products Ltd.

243. Visscher Lumber Inc

244. W.I. Woodtone Industries Inc.

245. Waldun Forest Product Sales Ltd.

246. Watkins Sawmills Ltd.

247. West Bay Forest Products Ltd.

248. West Wind Hardwood Inc.

249. Western Forest Products Inc.

250. Western Lumber Sales Limited

251. Western Wood Preservers Ltd.

252. Weston Forest Products Inc.

253. Westrend Exteriors Inc.

254. Weyerhaeuser Co.

255. White River Forest Products L.P.

256. Winton Homes Ltd.

257. Woodline Forest Products Ltd.

258. Woodstock Forest Products/Woodstock Forest Products Inc.

259. Woodtone Specialties Inc.

260. Yarrow Wood Ltd.

[FR Doc. 2022-00212 Filed 1-7-22; 8:45 am]

BILLING CODE 3510-DS-P